DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: NOAA Customer Surveys.

Form Number(s): None.

OMB Approval Number: 0648-0342.

Type of Request: Regular submission.

Burden Hours: 4,196.

Number of Respondents: 59,100.

Average Hours per Response: 5 minutes.

Needs and Uses: This is a request for renewal of a generic clearance for voluntary customer surveys to be conducted by NOAA program offices. In accordance with Executive Order 12862, the National Performance Review, and good management practices, NOAA offices seek to continue to gather customer feedback on services and/or products, which can be used in planning for service/product modification and prioritization.

Under this generic clearance, individual offices would continue use of approved questionnaires and develop new questionnaires, as needed, by selecting subsets of the approved set of collection questions and tailoring those specific questions to be meaningful for their particular programs. These proposed questionnaires would then be submitted through a fast-track request for approval process.

Affected Public: Individuals or households; not-for-profit institutions; business or other for-profit organizations; State, Local or Tribal Government.

Frequency: On occasion.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, Fax number (202) 395-7285, or David_Rostker@omb.eop.gov.

Dated: July 22, 2008.
Gwellnar Banks,
Management Analyst, Office of the Chief Information Officer.

[FR Doc. E8-17059 Filed 7-24-08; 8:45 am]

BILLING CODE 3510-12-P